FEDERAL COMMUNICATIONS COMMISSION

Federal Advisory Committee Act

AGENCY: Federal Communications Commission.

ACTION: Notice of charter renewal.

SUMMARY: In accordance with the Federal Advisory Committee Act (Pub. L. 92-463), the purpose of this notice is to announce that the Federal Communications Commission (FCC) has renewed the charter for the “Advisory Committee on Diversity for Communications in the Digital Age.” (“Diversity Committee”) for a two-year period through December 5, 2008. The Diversity Committee is a federal advisory committee under the Federal Advisory Committee Act.

DATES: December 5, 2008.

ADDRESSES: A copy of the Charter is available from the Federal Communications Commission, Reference Information Center, 445 12th Street, SW., Room CY-A257, Washington, DC 20554.

FOR FURTHER INFORMATION CONTACT: Lisa M. Fowlkes, Designated Federal Officer for the Diversity Committee, Federal Communications Commission, 445 12th St. SW., Room 7-C753, Washington, DC 20554. Telephone (202) 418-7452. E-mail: lisa.fowlkes@fcc.gov.

SUPPLEMENTARY INFORMATION: The purpose of the Diversity Committee is to make recommendations to the FCC regarding policies and practices that will further enhance the ability of minorities and women to participate in the telecommunications and related industries. Issues or questions to be considered by the Committee will include, but are not limited to the following topic areas: (1) Financial issues, such as access to capital; (2) transactional transparency and related outreach; (3) career advancement; and (4) the impact of new and emerging technologies on diversity issues. In keeping with its advisory role, the duties of the Committee will be to provide guidance to the Commission on policies and practices that could increase the diversity of ownership and create opportunities for minorities and women to advance to managerial positions in the communications sector. The Committee will make reports and recommendations concerning the need for any guidelines, incentives, regulations or other policy approaches to promote diversity of participation in the communications sector. The Committee will also develop a description of best practices within the communications sector for promoting diversity of participation.

Federal Communications Commission.
Marlene H. Dortch,
Secretary.

[FR Doc. E6-21003 Filed 12-8-06; 8:45 am]

BILLING CODE 6712-01-P